OFFICE OF PERSONNEL MANAGEMENT

Submission for OMB Emergency Review: Federal Employees Dental and Vision Insurance Program (FEDVIP) Enrollment System

AGENCY: Office of Personnel Management.

ACTION: Emergency clearance notice and request for comments.

SUMMARY: The Office of Personnel Management (OPM) submitted a request to the Office of Management and Budget (OMB) for emergency clearance and review for the Federal Employees Dental and Vision Insurance Program (FEDVIP) Enrollment System, known as BENEFEDS. As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments on this proposal for emergency review should be received within November 26, 2018. We are requesting OMB to take action within 5 calendar days from the close of this Federal Register Notice on the request for emergency review. This process is conducted in accordance with 5 CFR 1320.1.

ADDRESSES: Interested persons are invited to submit written comments on the proposed information collection to the Office of Information and Regulatory Affairs, Office of Management and Budget, 725 17th Street NW, Washington, DC 20503, Attention: Desk Officer for the Office of Personnel Management or sent via electronic mail to oira_submission@omb.eop.gov or faxed to (202) 395-6974. You must include “Emergency Submission Comment on Federal Employees Dental and Vision Insurance Program (FEDVIP) Enrollment System” in the subject line of your message.

SUPPLEMENTARY INFORMATION: The Federal Employees Dental and Vision Insurance Program Enrollment System uses BENEFEDS, which is the secure enrollment website sponsored by OPM that allows eligible individuals to enroll or change enrollment in a FEDVIP plan. Eligible individuals use the system to enroll or change enrollment during the annual Open Season or when experiencing a qualifying life event under 5 CFR 894.101. Federal Civilian and U.S. Postal Service (USPS) employees, retirees (annuitants), survivor annuitants, compensationers, and their eligible family members can enroll and be enrolled in FEDVIP. In addition, most uniformed services retirees and their families will be eligible to enroll in dental and vision insurance and most uniformed services active duty family members will be eligible to enroll in vision insurance under FEDVIP beginning during the 2018 Open Season for coverage effective January 1, 2019. OPM uses this enrollment system to carry out its responsibility to administer the FEDVIP in accordance with 5 U.S.C. chapters 89A and 89B and implementing regulations (5 CFR part 894) but has been doing so without an OMB control number.

As required by the Paperwork Reduction Act of 1995 (Pub. L. 104-13, 44 U.S.C. chapter 35) OPM is soliciting comments for this collection (OMB No. 3206-XXXX).

Agency: Office of Personnel Management.

Title: Federal Employees Dental and Vision Insurance Program (FEDVIP) Enrollment System.

OMB Number: 3206-XXXX.

Frequency: On occasion.

Affected Public: Individuals or Households.

Number of Respondents: 332,304.

Estimated Time per Respondent: 8 minutes.

Total Burden Hours: 44,307 hours.

Office of Personnel Management.
Alexys Stanley,
Regulatory Affairs Analyst.

[FR Doc. 2018-25262 Filed 11-19-18; 8:45 am]

BILLING CODE 6325-64-P